MERIT SYSTEMS PROTECTION BOARD

Privacy Act; Termination of Three Systems of Records

AGENCY: Merit Systems Protection Board.

ACTION: Notice.

SUMMARY: The Merit Systems Protection Board (MSPB) is terminating the following Systems of Records: MSPB/Internal 5, “Workload and Assignment Tracking System;” MSPB/Internal 7, “Administrative Data System;” and MSPB/Central 1, “Assignment and Correspondence Tracking System.” They are no longer in use.

DATES: Effective April 6, 2012.

FOR FURTHER INFORMATION CONTACT: Darryl Aaron, Director of Information Services, Office of the Clerk of the Board, 1615 M Street NW., Washington, DC 20419; (202) 254-4474; Darryl.Aaron@mspb.gov.

SUPPLEMENTARY INFORMATION: Pursuant to the provisions of the Privacy Act of 1974, this notice formally terminates the following systems of records: MSPB/Internal 5, “Workload and Assignment Tracking System;” MSPB/Internal 7, “Administrative Data System;” and MSPB/Central 1, “Assignment and Correspondence Tracking System.”

William Spencer,
Clerk of the Board.

[FR Doc. 2012-9530 Filed 4-19-12; 8:45 am]

BILLING CODE 7400-01-P